DEPARTMENT OF COMMERCE

National Oceanic and Atmospheric Administration

RIN 0648-XG803

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will convene on Monday, April 1 through Thursday, April 4, 2019.

ADDRESSES: The meeting will take place at the Imperial Palace (IP) Casino & Resort Hotel, located at 850 Bayview Avenue, Biloxi, MS 39530; telephone: (228) 436-3000.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, April 1, 2019; 8:30 a.m.-5 p.m.

The meeting will begin in a Closed Session of the Full Council to select members to the Data Collection and Coral Advisory Panels; and, vote on the 2018 Law Enforcement Officer of the Year. The Council will also review the 2015-18 Funding and Expenditures. The Committee Sessions will begin mid-morning with the Administrative/Budget Committee reviewing the 2019 Anticipated Activities and Budget, Funded Expenditures, and Supplemental Contracts. The Data Collection Committee will have a discussion on Commercial Fishing Unique Trip Identifiers; and, Southeast For-Hire Integrated Electronic Reporting (SEFHIER) Implementation Update and Outreach Meeting Summaries.

Following lunch, the Sustainable Fisheries Committee will receive a presentation on the update of Deepwater Horizon Open Ocean Restoration Planning; review Final Action: Replacement of Historical Captain Permits with Standard Federal For-Hire Permits; discussion and selection of Allocation Review Triggers; and, review Final Action: Generic Amendment: Carryover Provisions and Framework Modifications.

Tuesday, April 2, 2019; 8:30 a.m.-5:30 p.m.

The Reef Fish Committee will review of Reef Fish Landings; receive a presentation on 2019 For-Hire Red Snapper Fishing Season; review Final Action: Amendment 50—State Management Program for Recreational Red Snapper and Individual State Amendments.

After lunch, the Reef Fish Committee will reconvene to review Final Action: Red Grouper Framework Action to Modify Annual Catch Limits and Annual Catch Targets; Framework Action to Modify Greater Amberjack Commercial Trip Limits; and, Review Draft Reef Fish Amendment 52: Red Snapper Reallocation. The committee will also review Draft Amendment 36B: Modifications to Commercial Individual Fishing Quota (IFQ) Programs and receive a Statistical and Scientific Committee (SSC) Summary Report.

Wednesday, April 3, 2019; 8:30 a.m.-5:30 p.m.

The Habitat Protection and Restoration Committee will receive a presentation on the results of the Council's 5-year Essential Fish Habitat Review. The Shrimp Committee will review the updated Stock Assessments; Biological Review of the Texas Closure; receive a summary from the Shrimp Advisory Panel meeting; and, review of Final Action-Shrimp Amendment 18: Evaluation of Shrimp Effort Threshold Reduction in the Area Monitored for Juvenile Red Snapper Bycatch. The Law Enforcement Committee will receive a summary from the Law Enforcement Technical Committee meeting.

Mid-morning, the Full Council will convene with a Call to Order, Announcements, and Introductions; followed by an Adoption of Agenda and Approval of Minutes. The Council will review Exempted Fishing Permit (EFP) applications, along with any public comments noted on the applications; and, receive a presentation on Mississippi's Law Enforcement efforts. After lunch, the Council will receive public testimony from 1:30 p.m. until 5:30 p.m. on the following items: Final Action: Amendment 50: State Management Program for Recreational Red Snapper and Individual State Amendments; Final Action: Generic Amendment: Carryover Provisions and Framework Modifications; Final Action: Red Grouper Framework Action to Modify Annual Catch Limits and Annual Catch Targets; Final Action: Shrimp Amendment 18: Evaluation of Shrimp Effort Threshold Reduction in the Area Monitored for Juvenile Red Snapper Bycatch; and, Final Action: Replacement of Historical Captain Permits with Standard Federal For-Hire Permits; and, open testimony on any other fishery issues or concerns. Anyone wishing to speak during public comment should sign in at the registration station located at the entrance to the meeting room.

Thursday, April 4, 2019; 8:30 a.m.-3 p.m.

The Council will receive management committee reports from the Shrimp, Administrative/Budget, Data Collection, Sustainable Fisheries, Habitat Protection and Restoration, Law Enforcement and, Reef Fish Management Committees; and, Announce the 2018 Law Enforcement Officer of the Year. After lunch, the Council will vote on Exempted Fishing Permit (EFP) applications, if any; and receive updates from the following supporting agencies: South Atlantic Fishery Management Council; NOAA Office of Law Enforcement (OLE), Gulf States Marine Fisheries Commission; U.S. Coast Guard; U.S. Fish and Wildlife Service; and, the Department of State.

Lastly, the Council will discuss Other Business items:

Meeting Adjourns

The meeting will be broadcast via webinar. You may register for the webinar by visiting www.gulfcouncil.org and clicking on the Council meeting on the calendar.

The timing and order in which agenda items are addressed may change as required to effectively address the issue, and the latest version along with other meeting materials will be posted on www.gulfcouncil.org as they become available.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: February 8, 2019.
Tracey L. Thompson,
Acting Deputy Director, Office of Sustainable Fisheries, National Marine Fisheries Service.

[FR Doc. 2019-02168 Filed 2-12-19; 8:45 am]

BILLING CODE 3510-22-P